DEPARTMENT OF TRANSPORTATION

Federal Aviation Administration

14 CFR Part 71

[Docket No. FAA-2010-0386; Airspace Docket No. 10-AWA-1]

RIN 2120-AA66

Proposed Revocation of Class C Airspace, Proposed Establishment of Class D Airspace, and Proposed Modification of Class E Airspace; Columbus, GA

AGENCY: Federal Aviation Administration (FAA), DOT.

ACTION: Notice of proposed rulemaking (NPRM).

SUMMARY: This action proposes to revoke the Columbus, GA, Class C airspace area; establish Class D airspace area to replace the Class C airspace area; and amend the existing Class E surface area and 700-foot Class E airspace at Columbus, GA. The FAA is proposing this action because Columbus Metropolitan Airport no longer meets the criteria required to qualify for a Class C airspace designation. Reconfiguring the area would enhance safety and facilitate more efficient use of airspace within the National Airspace System.

DATES: Comments must be received on or before July 19, 2010.

ADDRESSES: Send comments on this proposal to the U.S. Department of Transportation, Docket Operations, M-30, 1200 New Jersey Avenue, SE., West Building Ground Floor, Room W12-140, Washington, DC 20590-0001; telephone: (202) 366-9826. You must identify FAA Docket No. FAA-2010-0386 and Airspace Docket No. 10-AWA-1, at the beginning of your comments. You may also submit comments through the Internet at http://www.regulations.gov

FOR FURTHER INFORMATION CONTACT: Paul Gallant, Airspace and Rules Group, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2010-0386 and Airspace Docket No. 10-AWA-1) and be submitted in triplicate to the Docket Management Facility (see ADDRESSES section for address and phone number). You may also submit comments through the Internet at http://www.regulations.gov

Commenters wishing the FAA to acknowledge receipt of their comments on this action must submit with those comments a self-addressed, stamped postcard on which the following statement is made: “Comments to Docket Nos. FAA-2010-0386 and Airspace Docket No. 10-AWA-1.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's web page at http://www.faa.gov/regulations_policies/rulemaking/recently_published/.

You may review the public docket containing the proposal, any comments received and any final disposition in person in the Dockets Office (see ADDRESSES section for address and phone number) between 9 a.m. and 5 p.m., Monday through Friday, except Federal holidays. An informal docket may also be examined during normal business hours at the office of the Eastern Service Center, Federal Aviation Administration, Room 210, 1701 Columbia Ave., College Park, GA 30337.

Persons interested in being placed on a mailing list for future NPRMs should contact the FAA's Office of Rulemaking, (202) 267-9677, for a copy of Advisory Circular No. 11-2A, Notice of Proposed Rulemaking Distribution System, which describes the application procedure.

Background

Class C airspace areas are designed to improve air safety by reducing the risk of midair collisions in high volume airport terminal areas and enhance the management of air traffic operations in that area. In order for an airport to be considered for designation of Class C airspace, it must meet the following criteria:

1. The airport must be served by an operational airport traffic control tower (ATCT) and a radar approach control; and

2. One of the following applies:

(a) An annual instrument operations count of 75,000 at the primary airport; or

(b) An annual count of 250,000 enplaned passengers at the primary airport.

Both instrument operations and passenger enplanements at Columbus Metropolitan Airport have declined significantly in recent years. Passenger enplanement figures for calendar year 2008 (the most recent validated figures available) totaled 51,288. Instrument operations for calendar year 2008 were 22,795. These totals are significantly below the above stated thresholds for Class C airspace designation.

On February 3, 2010, an informal airspace meeting was held at the Columbus Metropolitan Airport to describe the proposed airspace changes and to seek facts and information regarding the proposal. Approximately 24 persons attended the meeting. No objections to the proposal were expressed at the meeting.

The Proposal

The FAA is proposing an amendment to Title 14, Code of Federal Regulations (14 CFR) part 71 to remove the Columbus Metropolitan Airport Class C airspace area. The FAA is further proposing to establish a Class D airspace area to replace the Class C airspace area. The proposed Class D airspace area would be designated as part-time and would be in effect during the Columbus ATCT hours of operation as published in the Airport/Facility Directory. During periods when the ATCT is closed, the Class D airspace area would revert to a Class E surface area as is currently the case at the airport. This action would also change the dimensions of the existing Class E surface area by reducing the radius of the area from a 5-nautical mile (NM) radius to a 4.4-NM radius to match the dimensions of the new Class D airspace area. In addition, this action would amend part of the description of the existing Columbus, GA, Class E airspace that extends upward from 700-feet above the surface by changing the radius of the area around the Columbus Metropolitan Airport from the current 10-NM radius to a 6.8-NM radius.

Class C airspace areas, Class D airspace areas, Class E surface areas and Class E airspace, extending upward from 700-feet above the surface, are published in paragraphs 4000, 5000, 6002, and 6005, respectively, of FAA Order 7400.9T, dated August 27, 2009 and effective September 15, 2009, which is incorporated by reference in 14 CFR 71.1. The Class C, D and E airspace area amendments proposed in this document would be published subsequently in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it amends terminal airspace as required to preserve the safe and efficient flow of air traffic in the Columbus, GA area.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9T, Airspace Designations and Reporting Points, dated August 27, 2009, and effective September 15, 2009, is amended as follows:

Paragraph 4000 Subpart C—Class C Airspace.

* * * * *

ASO GA C Columbus Metropolitan Airport, GA [Removed]

* * * * *

Paragraph 5000 Class D Airspace.

* * * * *

ASO GA D Columbus, GA [New]

Columbus Metropolitan Airport, GA

(Lat. 32°30′59″ N., long. 84°56′20″ W.)

That airspace extending upward from the surface to and including 2,900 feet MSL within a 4.4-mile radius of the Columbus Metropolitan Airport; and that airspace within 1 mile each side of the 234° bearing from the airport extending from the 4.4-mile radius to 5 miles south of the airport. This Class D airspace is effective during the specific days and times established in advance by a Notice to Airmen. The effective date and time will thereafter be continuously published in the Airport/Facility Directory.

* * * * *

Paragraph 6002 Class E Airspace Designated as Surface Areas.

* * * * *

ASO-GA E2 Columbus Metropolitan Airport, GA [Amended]

Columbus Metropolitan Airport

(Lat. 32°30′59″ N., long. 84°56′20″ W.)

Within a 4.4-mile radius of Columbus Metropolitan Airport; and that airspace within 1 mile each side of the 234° bearing from the airport, extending from the 4.4-mile radius to 5 miles south of the airport. This Class E airspace area is effective during the specific dates and times established in advance by a Notice to Airmen. The effective date and time will thereafter be continuously published in the Airport/Facility Directory.

* * * * *

Paragraph 6005 Class E Airspace Areas Extending Upward from 700 Feet or More Above the Surface of the Earth.

* * * * *

ASO GA E5 Columbus, GA [Amended]

Columbus Metropolitan Airport, GA

(Lat. 32°30′59″ N., long. 84°56′20″ W.)

Lawson AAF, GA

(Lat. 32°20′14″ N., long. 84°59′29″ W.)

Lawson VOR/DME

(Lat. 32°19′57″ N., long. 84°59′36″ W.)

Lawson LOC

(Lat. 32°20′43″ N., long. 84°59′55″ W.)

That airspace extending upward from 700 feet above the surface within a 6.8-mile radius of Columbus Metropolitan Airport; and within 1 mile each side of the 234° bearing from the airport extending from the 6.8-mile radius to 7.3-miles south of the airport; and within a 7.6-mile radius of Lawson AAF; and within 2.5 miles each side of Lawson VOR/DME 340° radial extending from the 7.6-mile radius to 15 miles north of the VOR/DME; and within 4 miles each side of the Lawson LOC 145° course extending from the 7.6-mile radius to 10.6 miles southeast of Lawson AAF.

Issued in Washington, DC, on May 7, 2010.
Edith V. Parish,
Manager, Airspace and Rules Group.

[FR Doc. 2010-11851 Filed 5-17-10; 8:45 am]

BILLING CODE 4910-13-P